DEPARTMENT OF ENERGY

Federal Energy Regulatory Commission

[Docket No. CP10-19-000]

Great Lakes Gas Transmission Limited Partnership; Notice of Request Under Blanket Authorization

November 19, 2009.

Take notice that on November 13, 2009, Great Lakes Gas Transmission Limited Partnership (Great Lakes), 717 Texas Street, Houston, Texas 77002, filed in Docket No. CP10-19-000, a prior notice request pursuant to sections 157.205 and 157.216 of the Federal Energy Regulatory Commission's regulations under the Natural Gas Act for authorization to abandon a compressor unit, located in Charlevoix County, Michigan, all as more fully set forth in the application, which is on file with the Commission and open to public inspection. The filing may also be viewed on the Web at http://www.ferc.gov using the “eLibrary” link. Enter the docket number excluding the last three digits in the docket number field to access the document. For assistance, contact FERC at FERCOnlineSupport@ferc.gov or call toll-free, (866) 208-3676 or TTY, (202) 502-8659.

Specifically, Great Lakes proposes to abandon a 4,000 horsepower compressor unit, Unit 1103, located on Great Lakes' system at the Boyne Falls Compressor Station. Great Lakes states that continued use of this compressor unit is unnecessary due to a rearrangement of station facilities whereby the remaining compressor units now operate in parallel instead of in a series. Great Lakes declares that this rearrangement was made to eliminate piping vibrations, component failures, and other operating concerns. Great Lakes avers that there is no significant impact on throughput from the proposed abandonment of Unit 1103 due in part because the other compressor units at the station have upgraded aerodynamic assemblies to accommodate parallel operation of the compressor units. Great Lakes asserts that no service to existing customers will be terminated or otherwise adversely impacted as a result of the proposed abandonment. Great Lakes proposes to maintain Unit 1103 in a salable condition for eventual resale.

Any questions regarding the application should be directed to M. Catharine Davis, Associate General Counsel, Great Lakes Gas Transmission Limited Partnership, Texas Street, Houston, Texas 77002-2761, telephone (832) 320-5509, or fax (832) 320-6509.

Any person may, within 60 days after the issuance of the instant notice by the Commission, file pursuant to Rule 214 of the Commission's Procedural Rules (18 CFR 385.214) a motion to intervene or notice of intervention. Any person filing to intervene or the Commission's staff may, pursuant to section 157.205 of the Commission's Regulations under the Natural Gas Act (NGA) (18 CFR 157.205) file a protest to the request. If no protest is filed within the time allowed therefore, the proposed activity shall be deemed to be authorized effective the day after the time allowed for protest. If a protest is filed and not withdrawn within 30 days after the time allowed for filing a protest, the instant request shall be treated as an application for authorization pursuant to section 7 of the NGA.

The Commission strongly encourages electronic filings of comments, protests, and interventions via the Internet in lieu of paper. See 18 CFR 385.2001(a)(1)(iii) and the instructions on the Commission's Web site (http://www.ferc.gov) under the “e-Filing” link.

Kimberly D. Bose,
Secretary.

[FR Doc. E9-28339 Filed 11-25-09; 8:45 am]

BILLING CODE P